DEPARTMENT OF COMMERCE

National Oceanic and Atmospheric Administration

New England Fishery Management Council (NEFMC); Public Meeting

AGENCY: National Marine Fisheries Service (NMFS), National Oceanic and Atmospheric Administration (NOAA), Commerce.

ACTION: Notice of public meeting.

SUMMARY: The New England Fishery Management Council (Council) will hold a three-day meeting to consider actions affecting New England fisheries in the exclusive economic zone (EEZ).

DATES: The meeting will be held on Tuesday, Wednesday and Thursday, starting at 8:30 a.m. on each of the meeting days.

ADDRESSES: The meeting will be held at the Hotel Viking, 1 Bellevue Ave., Newport, RI 02840. The telephone number is (401) 847-3300. Check www.hotelviking.com/ for online information.

Council address: New England Fishery Management Council, 50 Water Street, Mill 2, Newburyport, MA 01950; telephone: (978) 465-0492.

FOR FURTHER INFORMATION CONTACT: Thomas A. Nies, Executive Director, New England Fishery Management Council; telephone: (978) 465-0492.

SUPPLEMENTARY INFORMATION:

Tuesday, June 16, 2015

The Council meeting will begin with introductions followed by brief reports from the NEFMC Chairman and Executive Director, the NOAA Fisheries Regional Administrator (Greater Atlantic Region), the Northeast Fisheries Science Center and Mid-Atlantic Fishery Management Council liaisons, NOAA General Counsel and Office of Law Enforcement, and representatives of the Atlantic States Marine Fisheries Commission and U.S Coast Guard. The public will then have an opportunity to bring forward brief comments on items that are relevant to Council business but otherwise not listed on the published agenda. The NEFMC also will finalize its comments on a proposed rule to revise the guidelines for National Standards 1, 3, and 7 of the Magnuson-Stevens Fishery Conservation and Management Act. Prior to a lunch break, Council members will receive a report from its Habitat Committee. The intent is to finalize the management measures that remain outstanding from the April 2015 Council meeting by approving them for inclusion in Omnibus Essential Fish Habitat Amendment 2. Specifically, the Council will select Georges Bank habitat management areas and mortality alternatives, as well as spawning alternatives for Georges Bank/Southern New England and the Gulf of Maine, and then approve the entire amendment for submission to NMFS. Discussion about this agenda item will continue after the lunch break and until the meeting adjourns at the end of this meeting day.

Wednesday, June 17, 2015

The Wednesday session will begin with a report on the April 2015 Atlantic herring operational stock assessment. This will be followed by a review of topics and issues related to the development of Amendment 8 to the Atlantic Herring Fishery Management Plan (FMP). They include consideration of the following: (1) A report from the Ecosystem-based Fisheries Management (EBFM) Plan Development Team about the development of alternatives for a herring acceptable biological catch (ABC) control rule that includes consideration of the role of herring as a forage species in the ecosystem; (2) a report from the Council's Scientific and Statistical Committee (SSC) on the development of an ecosystem-based ABC control rule for Atlantic herring; (3) recommendations from the Joint Herring/EBFM Committee; and (4) the Amendment 8 scoping comments. The Council will then provide guidance to the Herring Committee on the development of goals and objectives for Amendment 8 and ABC control rule alternatives. The SSC will report on any comments it may have on the herring stock assessment and present its recommendation for an Atlantic herring ABC to the Council.

After a noon lunch break, the Council will begin work on the Atlantic herring fishery specifications for 2016-18. They will: (1) Possibly select a preferred alternative for the 2016-18 herring ABC and take action on other elements of the herring specifications; and (2) provide guidance to the Herring Committee on developing options for Atlantic herring sub-annual catch limits; and (3) address provisions for research set-asides and river herring/shad catch caps to be included in the specifications package. The day will conclude after the Council reviews and discusses a number of reports that are scheduled to be finalized at the June meeting of the FMCs Coordination Committee. These are Integrating NEPA Compliance into a Reauthorized Magnuson-Stevens Act, Criteria for Initiating Fisheries Allocation Reviews, and a NOAA white paper on Cooperative Research and Cooperative Management.

Thursday, June 18, 2015

The Thursday session will begin with a briefing on the summary report of the March 2015 peer review of the sea scallop survey methodologies used in the Northeast. Next, the Sea Scallop Committee will discuss development of two actions associated with the Council's Sea Scallop FMP. They are Amendment 19, to address issues associated with the late implementation of fishery specifications; and Amendment 27 to the FMP, in which 2016-17 fishery specifications will be set. The Council also will approve research priorities for the 2016-17 scallop research set-aside program and discuss a draft white paper and possibly a workshop that would focus on concerns raised about scallop fishing patterns in nearshore areas. The Monkfish Committee will recommend final Council approval of Framework Adjustment 9 to the Monkfish FMP, an action that primarily involves adjustments to fishing days-at-sea in order to promote greater operational flexibility in the fishery. Following a lunch break, there will be reports from the Northeast Fisheries Science Center. The first will outline the process used to form stock assessment working groups and the second will concern the establishment of a Northeast Trawl Survey Advisory Panel. The Council's Electronic Working Group will then provide a brief update on its recent activities, followed by a Groundfish Committee report. During this last report the Council will initiate action on specifications for all groundfish stocks for fishing years 2016-18, including the three U.S./Canada stocks, for fishing year2016. It also will receive an analysis of industry costs for at-sea monitoring (ASM) and potentially discuss changes to the Northeast Multispecies FMP to address industry concerns around the feasibility of the existing requirement that sectors assume some of the costs of the ASM program.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Thomas A. Nies (see ADDRESSES) at least 5 days prior to the meeting date.

Dated: May 27, 2015.
Tracey L. Thompson,
Acting Deputy Director, Office of Sustainable Fisheries, National Marine Fisheries Service.

[FR Doc. 2015-13108 Filed 5-29-15; 8:45 am]

BILLING CODE 3510-22-P